DEPARTMENT OF ENERGY

Federal Energy Regulatory Commission

[Docket No. IC22-18-000]

Commission Information Collection Activities (FERC-715); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-715 (Annual Transmission Planning and Evaluation Report), which will be submitted to the Office of Management and Budget (OMB) for a review of the information collection requirements.

DATES: Comments on the collection of information are due October 11, 2022.

ADDRESSES: Send written comments on FERC-715 to OMB through www.reginfo.gov/public/do/PRAMain, Attention: Federal Energy Regulatory Commission Desk Officer. Please identify the OMB control number (1902-0171) in the subject line. Your comments should be sent within 30 days of publication of this notice in the Federal Register.

Please submit copies of your comments (identified by Docket No. IC22-18-000) to the Commission as noted below. Electronic filing through http://www.ferc.gov is preferred.

• Electronic Filing: Documents must be filed in acceptable native applications and print-to-PDF, but not in scanned or picture format.

• For those unable to file electronically, comments may be filed by USPS mail or by hand (including courier) delivery.

○ Mail via U.S. Postal Service Only Addressed to: Federal Energy Regulatory Commission, Secretary of the Commission, 888 First Street NE, Washington, DC 20426.

○ Hand (including courier) delivery: Deliver to: Federal Energy Regulatory Commission, 12225 Wilkins Avenue, Rockville, MD 20852.

Instructions:

OMB submissions must be formatted and filed in accordance with submission guidelines at www.reginfo.gov/public/do/PRAMain. Using the search function under the “Currently Under Review field,” select Federal Energy Regulatory Commission; click “submit,” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-715, Annual Transmission Planning and Evaluation Report.

OMB Control No.: 1902-0171.

Abstract: Section 213(b) of the Federal Power Act ¹ instructs the Commission to require transmitting utilities ² to submit information annually about potentially available transmission capacity and known constraints. Such information must be available to potential transmission customers, State regulatory authorities, and the public.

¹ 16 U.S.C. 824l(b)

² FPA section 3(23) (16 U.S.C. 796(23)) defines “transmitting utility” as an entity that owns, operates, or controls facilities used for the transmission of electric energy in interstate commerce for the sale of electric energy at wholesale.

The Commission implements section 213(b) in accordance with the regulation at 18 CFR 141.300, which provides that the information collection applies to each transmitting utility that operates integrated transmission system facilities rated above 100 kilovolts (kV), and lists the following information that must be included in the annual submission:

• Contact information;

• Base case power flow data (if the respondent does not participate in the development and use of regional power flow data);

• Transmission system maps and diagrams used by the respondent for transmission planning;

• A detailed description of the transmission planning reliability criteria used to evaluate system performance for time frames and planning horizons used in regional and corporate planning;

• A detailed description of the respondent's transmission planning assessment practices (including, but not limited to, how reliability criteria are applied and the steps taken in performing transmission planning studies); and

• A detailed evaluation of the respondent's anticipated system performance as measured against its stated reliability criteria using its stated assessment practices.

The information collected under FERC-715 assists the Commission in reviewing:

• Rates and charges;

• Disposition of jurisdictional facilities;

• Consolidations and mergers;

• Adequacy of supply; and

• Reliability and security of the nation's bulk power system.

Without the FERC-715 data, the Commission would be less able to evaluate planned projects or requests related to transmission.

Type of Respondent: Integrated transmission system facilities rated at or above 100 kilovolts (kV).

Estimate of Annual Burden: ³ The Commission estimates the total annual burden and cost ⁴ for this information collection as follows.

³ “Burden” is the total time, effort, or financial resources expended by persons to generate, maintain, retain, or disclose or provide information to or for a Federal agency. For further explanation of what is included in the information collection burden, refer to 5 CFR 1320.3.

⁴ The Commission staff estimates that the industry's hourly cost for wages plus benefits is similar to the Commission's $87.00 FY 2021 average hourly cost for wages and benefits.

FERC-715, Annual Transmission Planning and Evaluation Report
Type of response | Number of respondents | Annual number of responses per respondent | Total number of responses | Average burden & cost per response | Total annual burden hours & total annual cost | Cost per respondent ($)
| (1) | (2) | (1) * (2) = (3) | (4) | (3) * (4) = (5) | (5) ÷ (1)
Annual Transmission Planning and Evaluation Report | 111 | 1 | 111 | 160 hrs.; $13,920 | 17,760 hrs.; $1,545,120 | $13,920

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 1, 2022.
Kimberly D. Bose,
Secretary.

[FR Doc. 2022-19405 Filed 9-7-22; 8:45 am]

BILLING CODE 6717-01-P